DEPARTMENT OF TRANSPORTATION

Federal Aviation Administration

14 CFR Part 39

[Docket No. FAA-2005-23283; Directorate Identifier 2005-NM-185-AD]

RIN 2120-AA64

Airworthiness Directives; Empresa Brasileira de Aeronautica S.A. (EMBRAER) Model EMB-135 Airplanes; and Model EMB-145, -145ER, -145MR, -145LR, -145XR, -145MP, and -145EP Airplanes

AGENCY: Federal Aviation Administration (FAA), Department of Transportation (DOT).

ACTION: Notice of proposed rulemaking (NPRM).

SUMMARY: The FAA proposes to adopt a new airworthiness directive (AD) for all EMBRAER Model EMB-135 airplanes; and Model EMB-145, -145ER, -145MR, -145LR, -145XR, -145MP, and -145EP airplanes. This proposed AD would require repetitive inspections of the pitot static heating relay K0057 for damage to the pin-type contacts, relay enclosure, and finishing material and corrective actions if necessary. This proposed AD also would require doing a terminating modification, which ends the repetitive inspections. This proposed AD results from a report of a burning drain hose and smoke caused by an overheated pitot static heating relay. We are proposing this AD to prevent overheating of a certain pitot static heating relay, which could result in the burning of the windowsill drain hoses and consequent smoke or fire in the airplane cockpit.

DATES: We must receive comments on this proposed AD by January 12, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Empresa Brasileira de Aeronautica S.A. (EMBRAER), P.O. Box 343—CEP 12.225, Sao Jose dos Campos—SP, Brazil, for service information identified in this proposed AD.

FOR FURTHER INFORMATION CONTACT: Dan Rodina, Aerospace Engineer, International Branch, ANM-116, Transport Airplane Directorate, FAA, 1601 Lind Avenue, SW., Renton, Washington 98055-4056; telephone (425) 227-2125; fax (425) 227-1149.

SUPPLEMENTARY INFORMATION:

Comments Invited

We invite you to submit any relevant written data, views, or arguments regarding this proposed AD. Send your comments to an address listed in the ADDRESSES section. Include the docket number “FAA-2005-23283; Directorate Identifier 2005-NM-185-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Departmento de Aviacao Civil (DAC), which is the airworthiness authority for Brazil, notified us that an unsafe condition may exist on all Empresa Brasileira de Aeronautica S.A. (EMBRAER) Model EMB-135 airplanes; and Model EMB-145, -145ER, -145MR, -145LR, -145XR, -145MP, and -145EP airplanes. The DAC advises that a pitot static heating relay overheated, causing a direct-vision windowsill drain hose to burn. This condition, if not corrected, could result in smoke or fire in the airplane cockpit.

Relevant Service Information

EMBRAER has issued the following service information:

EMBRAER service bulletin— | Dated— | Model—
145-30-0041 | April 20, 2005 | EMB-135ER, -135KE, -135KL, and -135LR airplanes; and Model EMB-145, -145ER, -145MR, -145LR, -145XR, -145MP, and -145EP airplanes. | 145-30-0042 | April 18, 2005 | 145LEG-30-0011 | April 20, 2005 | EMB-135BJ airplanes. | 145LEG-30-0012 | April 18, 2005

EMBRAER Service Bulletins 145-30-0042 and 145LEG-30-0012 describe procedures for doing repetitive visual inspections of pitot static heating relay K0057 for damage to the pin-type contacts, relay enclosure, and finishing material; and doing the corrective action if necessary. The visual inspection includes the following actions:

• Inspecting the sides of the silicone gasket for melted points or material stuck to the surface of the silicone gasket.

• Inspecting the relay enclosure for bellied surfaces, dents, and any crack in the paint of the enclosure.

• Inspecting the pin-type contacts for discolored, loosened, or missing contacts.

• Inspecting contact bases of the relay for any crack, loose material, or damaged sealant.

• Inspecting the pin-type contacts for any contaminants.

• Inspecting the relay surface where the pin-type contacts attach for any stuck material or roughness on the relay surface.

The corrective action is to replace the pitot static heating relay K0057 with a new part if any damage to the pin-type contacts, relay enclosure, and finishing material is found.

EMBRAER Service Bulletins 145-30-0041 and 145LEG-30-0011 describe procedures for doing a modification, which ends the repetitive inspections. The modification includes the following actions:

• Replacing the direct-vision windowsill drain hoses and tiedown straps with new, improved drain hoses and tiedown straps.

• Reworking a certain drain hose and installing a new hose, tube, and tiedown straps.

• For Model EMB-135BJ airplanes, the modification in EMBRAER Service Bulletins 145LEG-30-0011 also includes rerouting the drain hoses of the left and right cockpit horizontal linings.

Accomplishing the actions specified in the service information is intended to adequately address the unsafe condition. The DAC mandated the service information and issued Brazilian airworthiness directive 2005-08-04, dated September 5, 2005, to ensure the continued airworthiness of these airplanes in Brazil.

FAA's Determination and Requirements of the Proposed AD

These airplane models are manufactured in Brazil and are type certificated for operation in the United States under the provisions of section 21.29 of the Federal Aviation Regulations (14 CFR 21.29) and the applicable bilateral airworthiness agreement. Pursuant to this bilateral airworthiness agreement, the DAC has kept the FAA informed of the situation described above. We have examined the DAC's findings, evaluated all pertinent information, and determined that we need to issue an AD for airplanes of this type design that are certificated for operation in the United States.

Therefore, we are proposing this AD, which would require accomplishing the actions specified in the service information described previously, except as discussed under “Differences Between the Proposed AD and Service Bulletins.”

Difference Between the Proposed AD and Service Bulletins

EMBRAER Service Bulletins 145-30-0042 and 145LEG-30-0012 specify contacting the manufacturer if damage to components for the relay support is found. These service bulletins also specify returning any relay that fails an inspection to the airplane manufacturer. However, this proposed AD would not require those actions.

Clarification of Inspection Terminology

The “visual inspection” specified in the EMBRAER service bulletins is referred to as a “general visual inspection” in this proposed AD. We have included the definition for a general visual inspection in a note in the proposed AD.

Costs of Compliance

The following table provides the estimated costs for U.S. operators to comply with this proposed AD.

Estimated Costs
Action | Work hours | Average labor rate per hour | Parts | Cost per airplanes | Number of U.S.-registered airplanes | Fleet cost
Inspection, per inspection cycle | 1 | $65 | None | $65 | 651 | $42,315, per inspection cycle.
Terminating modification | 2 | $65 | $270 | $400 | 651 | $260,400.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Empresa Brasileira de Aeronautica S.A. (EMBRAER): Docket No. FAA-2005-23283; Directorate Identifier 2005-NM-185-AD.

Comments Due Date

(a) The FAA must receive comments on this AD action by January 12, 2006.

Affected ADs

(b) None.

Applicability

(c) This AD applies to all EMBRAER Model EMB-135BJ, -135ER, -135KE, -135KL, and -135LR airplanes; and Model EMB-145, -145ER, -145MR, -145LR, -145XR, -145MP, and -145EP airplanes; certificated in any category.

Unsafe Condition

(d) This AD results from a report of a burning drain hose and smoke caused by an overheated pitot static heating relay. We are issuing this AD to prevent overheating of a certain pitot static heating relay, which could result in the burning of the windowsill drain hoses and consequent smoke or fire in the airplane cockpit.

Compliance

(e) You are responsible for having the actions required by this AD performed within the compliance times specified, unless the actions have already been done.

Service Bulletin References

(f) The term “service bulletin,” as used in this AD, means the Accomplishment Instructions of the service bulletins identified in Table 1 of this AD, as applicable:

Table 1.—Service Bulletin References
For model— | For the actions specified in— | EMBRAER service bulletin—
EMB-135ER, -135KE, -135KL, and -135LR airplanes; and Model EMB-145, -145ER, -145MR, -145LR, -145XR, -145MP, -145EP airplanes | paragraph (g) of this AD | 145-30-0042, dated April 18, 2005.
| paragraph (i) of this AD | 145-30-0041, dated April 20, 2005.
EMB-135BJ airplanes | paragraph (g) of this AD | 145LEG-30-0012, dated April 18, 2005.
| paragraph (i) of this AD | 145LEG-30-0011, dated April 20, 2005.

Repetitive Inspections

(g) Within 600 flight hours or 180 days after the effective date of this AD, whichever is first: Do a general visual inspection of pitot static heating relay K0057 for damage to the pin-type contacts, relay enclosure, and finishing material, and do the corrective action as applicable, by accomplishing all of the applicable actions specified in the applicable service bulletin; except as provided by paragraph (h) of this AD. The corrective actions must be done before further flight. Repeat the inspection thereafter at intervals not to exceed 500 flight hours, until the terminating modification required by paragraph (i) of this AD is accomplished.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Service Bulletin Exceptions

(h) Although EMBRAER Service Bulletin 145-30-0042, dated April 18, 2005, and EMBRAER Service Bulletin 145LEG-30-0012, dated April 18, 2005, specify contacting the manufacturer if damage to components for the relay support is found and also specify returning any relay that fails an inspection to the airplane manufacturer, this AD does not include those requirements.

Terminating Modification

(i) Within 6,000 flight hours or 30 months after the effective date of this AD, whichever is first: Do the applicable actions specified in paragraphs (i)(1), (i)(2), and (i)(3) of this AD. Accomplishing all the applicable actions specified in this paragraph terminates the inspections required by paragraph (g) of this AD.

(1) For all airplanes, replace the direct-vision windowsill drain hoses having part number (P/N) 123-15435-401 and -403 with new, improved hoses having P/N 145-13044-001 and P/N 145-13047-001, as applicable, and replace the tiedown straps with new tiedown straps, in accordance with Figure 1 of the service bulletin.

(2) For all airplanes, rework the drain hose having P/N 123-15435-405, in accordance with Figure 1 of the service bulletin.

(3) For Model EMB-135BJ airplanes, reroute the drain hoses of the left and right cockpit horizontal linings, in accordance with Figure 2 of the service bulletin.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) Brazilian airworthiness directive 2005-08-04, dated September 5, 2005, also addresses the subject of this AD.

Issued in Renton, Washington, on December 6, 2005.
Kevin M. Mullin,
Acting Manager, Transport Airplane Directorate, Aircraft Certification Service.

[FR Doc. 05-23954 Filed 12-12-05; 8:45 am]

BILLING CODE 4910-13-P